DEPARTMENT OF HOMELAND SECURITY

Federal Emergency Management Agency

44 CFR Part 64

[Docket ID FEMA-2016-0002; Internal Agency Docket No. FEMA-8423]

Suspension of Community Eligibility

AGENCY: Federal Emergency Management Agency, DHS.

ACTION: Final rule.

SUMMARY: This rule identifies communities where the sale of flood insurance has been authorized under the National Flood Insurance Program (NFIP) that are scheduled for suspension on the effective dates listed within this rule because of noncompliance with the floodplain management requirements of the program. If the Federal Emergency Management Agency (FEMA) receives documentation that the community has adopted the required floodplain management measures prior to the effective suspension date given in this rule, the suspension will not occur and a notice of this will be provided by publication in the Federal Register on a subsequent date. Also, information identifying the current participation status of a community can be obtained from FEMA's Community Status Book (CSB). The CSB is available at http://www.fema.gov/fema/csb.shtm.

DATES: The effective date of each community's scheduled suspension is the third date (“Susp.”) listed in the third column of the following tables.

FOR FURTHER INFORMATION CONTACT: If you want to determine whether a particular community was suspended on the suspension date or for further information, contact Patricia Suber, Federal Insurance and Mitigation Administration, Federal Emergency Management Agency, 500 C Street SW., Washington, DC 20472, (202) 646-4149.

SUPPLEMENTARY INFORMATION: The NFIP enables property owners to purchase Federal flood insurance that is not otherwise generally available from private insurers. In return, communities agree to adopt and administer local floodplain management measures aimed at protecting lives and new construction from future flooding. Section 1315 of the National Flood Insurance Act of 1968, as amended, 42 U.S.C. 4022, prohibits the sale of NFIP flood insurance unless an appropriate public body adopts adequate floodplain management measures with effective enforcement measures. The communities listed in this document no longer meet that statutory requirement for compliance with program regulations, 44 CFR part 59. Accordingly, the communities will be suspended on the effective date in the third column. As of that date, flood insurance will no longer be available in the community. We recognize that some of these communities may adopt and submit the required documentation of legally enforceable floodplain management measures after this rule is published but prior to the actual suspension date. These communities will not be suspended and will continue to be eligible for the sale of NFIP flood insurance. A notice withdrawing the suspension of such communities will be published in the Federal Register.

In addition, FEMA publishes a Flood Insurance Rate Map (FIRM) that identifies the Special Flood Hazard Areas (SFHAs) in these communities. The date of the FIRM, if one has been published, is indicated in the fourth column of the table. No direct Federal financial assistance (except assistance pursuant to the Robert T. Stafford Disaster Relief and Emergency Assistance Act not in connection with a flood) may be provided for construction or acquisition of buildings in identified SFHAs for communities not participating in the NFIP and identified for more than a year on FEMA's initial FIRM for the community as having flood-prone areas (section 202(a) of the Flood Disaster Protection Act of 1973, 42 U.S.C. 4106(a), as amended). This prohibition against certain types of Federal assistance becomes effective for the communities listed on the date shown in the last column. The Administrator finds that notice and public comment procedures under 5 U.S.C. 553(b), are impracticable and unnecessary because communities listed in this final rule have been adequately notified.

Each community receives 6-month, 90-day, and 30-day notification letters addressed to the Chief Executive Officer stating that the community will be suspended unless the required floodplain management measures are met prior to the effective suspension date. Since these notifications were made, this final rule may take effect within less than 30 days.

National Environmental Policy Act. This rule is categorically excluded from the requirements of 44 CFR part 10, Environmental Considerations. No environmental impact assessment has been prepared.

Regulatory Flexibility Act. The Administrator has determined that this rule is exempt from the requirements of the Regulatory Flexibility Act because the National Flood Insurance Act of 1968, as amended, Section 1315, 42 U.S.C. 4022, prohibits flood insurance coverage unless an appropriate public body adopts adequate floodplain management measures with effective enforcement measures. The communities listed no longer comply with the statutory requirements, and after the effective date, flood insurance will no longer be available in the communities unless remedial action takes place.

Regulatory Classification. This final rule is not a significant regulatory action under the criteria of section 3(f) of Executive Order 12866 of September 30, 1993, Regulatory Planning and Review, 58 FR 51735.

Executive Order 13132, Federalism. This rule involves no policies that have federalism implications under Executive Order 13132.

Executive Order 12988, Civil Justice Reform. This rule meets the applicable standards of Executive Order 12988.

Paperwork Reduction Act. This rule does not involve any collection of information for purposes of the Paperwork Reduction Act, 44 U.S.C. 3501 et seq.

List of Subjects in 44 CFR Part 64

Flood insurance, Floodplains.

Accordingly, 44 CFR part 64 is amended as follows:

PART 64—[AMENDED]

1. The authority citation for part 64 continues to read as follows:

Authority: 42 U.S.C. 4001 et seq.; Reorganization Plan No. 3 of 1978, 3 CFR, 1978 Comp.; p. 329; E.O. 12127, 44 FR 19367, 3 CFR, 1979 Comp.; p. 376.

§ 64.6 [Amended]

2. The tables published under the authority of § 64.6 are amended as follows:

State and location | Community No. | Effective date authorization/cancellation of sale of flood insurance in community | Current effective map date | Date certain federal assistance no longer available in SFHAs
Region III
Pennsylvania:
Adamstown, Borough of, Lancaster County | 420541 | December 4, 1973, Emerg; January 16, 1981, Reg; April 5, 2016, Susp | April 5, 2016 | April 5, 2016.
Akron, Borough of, Lancaster County | 422461 | December 31, 1975, Emerg; December 16, 1980, Reg; April 5, 2016, Susp | ......do | Do.
Bart, Township of, Lancaster County | 421761 | June 10, 1975, Emerg; January 16, 1981, Reg; April 5, 2016, Susp | ......do | Do.
Brecknock, Township of, Lancaster County | 421762 | July 9, 1975, Emerg; April 1, 1981, Reg; April 5, 2016, Susp | ......do | Do.
Caernarvon, Township of, Lancaster County | 421763 | April 29, 1975, Emerg; May 19, 1981, Reg; April 5, 2016, Susp | ......do | Do.
Christiana, Borough of, Lancaster County | 420542 | July 30, 1975, Emerg; April 15, 1981, Reg; April 5, 2016, Susp | ......do | Do.
Clay, Township of, Lancaster County | 421764 | April 29, 1975, Emerg; December 16, 1980, Reg; April 5, 2016, Susp | ......do | Do.
Colerain, Township of, Lancaster County | 421765 | September 17, 1975, Emerg; January 16, 1981, Reg; April 5, 2016, Susp | ......do | Do.
Columbia, Borough of, Lancaster County | 420543 | March 9, 1973, Emerg; January 6, 1982, Reg; April 5, 2016, Susp | ......do | Do.
Conestoga, Township of, Lancaster County | 420544 | April 24, 1973, Emerg; March 18, 1980, Reg; April 5, 2016, Susp | ......do | Do.
Conoy, Township of, Lancaster County | 420545 | July 6, 1973, Emerg; June 4, 1980, Reg; April 5, 2016, Susp | ......do | Do.
Denver, Borough of, Lancaster County | 420546 | August 22, 1973, Emerg; April 15, 1981, Reg; April 5, 2016, Susp | ......do | Do.
Drumore, Township of, Lancaster County | 421766 | July 7, 1975, Emerg; April 15, 1981, Reg; April 5, 2016, Susp | ......do | Do.
Earl, Township of, Lancaster County | 421767 | January 13, 1975, Emerg; December 16, 1980, Reg; April 5, 2016, Susp | ......do | Do.
East Cocalico, Township of, Lancaster County | 420547 | April 24, 1974, Emerg; March 16, 1981, Reg; April 5, 2016, Susp | ......do | Do.
East Donegal, Township of, Lancaster County | 421768 | August 30, 1974, Emerg; January 16, 1980, Reg; April 5, 2016, Susp | ......do | Do.
East Drumore, Township of, Lancaster County | 421769 | August 27, 1975, Emerg; April 15, 1981, Reg; April 5, 2016, Susp | ......do | Do.
East Earl, Township of, Lancaster County | 421770 | October 18, 1974, Emerg; September 4, 1987, Reg; April 5, 2016, Susp | ......do | Do.
East Hempfield, Township of, Lancaster County | 420548 | June 6, 1973, Emerg; September 28, 1979, Reg; April 5, 2016, Susp | ......do | Do.
East Lampeter, Township of, Lancaster County | 421771 | September 6, 1974, Emerg; December 16, 1980, Reg; April 5, 2016, Susp | ......do | Do.
East Petersburg, Borough of, Lancaster County | 420549 | September 27, 1974, Emerg; September 5, 1979, Reg; April 5, 2016, Susp | ......do | Do.
Eden, Township of, Lancaster County | 421772 | July 7, 1980, Emerg; December 16, 1980, Reg; April 5, 2016, Susp | ......do | Do.
Elizabeth, Township of, Lancaster County | 421773 | July 31, 1975, Emerg; September 28, 1979, Reg; April 5, 2016, Susp | ......do | Do.
Elizabethtown, Borough of, Lancaster County | 420550 | May 15, 1973, Emerg; April 17, 1978, Reg; April 5, 2016, Susp | ......do | Do.
Ephrata, Borough of, Lancaster County | 420551 | April 17, 1973, Emerg; April 1, 1981, Reg; April 5, 2016, Susp | ......do | Do.
Ephrata, Township of, Lancaster County | 421208 | May 20, 1974, Emerg; May 19, 1981, Reg; April 5, 2016, Susp | ......do | Do.
Fulton, Township of, Lancaster County | 421774 | July 11, 1975, Emerg; April 15, 1981, Reg; April 5, 2016, Susp | ......do | Do.
Lancaster, City of, Lancaster County | 420552 | May 12, 1972, Emerg; September 28, 1979, Reg; April 5, 2016, Susp | ......do | Do.
Lancaster, Township of, Lancaster County | 420553 | March 9, 1973, Emerg; December 18, 1979, Reg; April 5, 2016, Susp | ......do | Do.
Leacock, Township of, Lancaster County | 420958 | December 17, 1973, Emerg; March 1, 1978, Reg; April 5, 2016, Susp | ......do | Do.
Lititz, Borough of, Lancaster County | 420554 | October 6, 1972, Emerg; October 15, 1980, Reg; April 5, 2016, Susp | ......do | Do.
Little Britain, Township of, Lancaster County | 421775 | June 16, 1975, Emerg; April 15, 1981, Reg; April 5, 2016, Susp | ......do | Do.
Manheim, Borough of, Lancaster County | 420555 | April 19, 1973, Emerg; March 2, 1983, Reg; April 5, 2016, Susp | ......do | Do.
Manheim, Township of, Lancaster County | 420556 | July 5, 1973, Emerg; August 15, 1979, Reg; April 5, 2016, Susp | ......do | Do.
Manor, Township of, Lancaster County | 420557 | April 19, 1973, Emerg; March 18, 1980, Reg; April 5, 2016, Susp | ......do | Do.
Marietta, Borough of, Lancaster County | 420558 | July 5, 1973, Emerg; February 1, 1980, Reg; April 5, 2016, Susp | ......do | Do.
Martic, Township of, Lancaster County | 421146 | April 11, 1974, Emerg; January 16, 1980, Reg; April 5, 2016, Susp | ......do | Do.
Millersville, Borough of, Lancaster County | 420559 | November 11, 1974, Emerg; December 15, 1978, Reg; April 5, 2016, Susp | ......do | Do.
Mount Joy, Borough of, Lancaster County | 420561 | May 22, 1974, Emerg; October 15, 1981, Reg; April 5, 2016, Susp | ......do | Do.
Mount Joy, Township of, Lancaster County | 421776 | September 20, 1974, Emerg; September 16, 1981, Reg; April 5, 2016, Susp | ......do | Do.
Mountville, Borough of, Lancaster County | 420560 | August 5, 1975, Emerg; July 16, 1981, Reg; April 5, 2016, Susp | ......do | Do.
Paradise, Township of, Lancaster County | 421777 | January 13, 1975, Emerg; May 19, 1981, Reg; April 5, 2016, Susp | ......do | Do.
Penn, Township of, Lancaster County | 421778 | February 5, 1975, Emerg; September 2, 1981, Reg; April 5, 2016, Susp | ......do | Do.
Pequea, Township of, Lancaster County | 421779 | January 24, 1975, Emerg; September 30, 1980, Reg; April 5, 2016, Susp | ......do | Do.
Providence, Township of, Lancaster County | 421780 | December 13, 1974, Emerg; September 30, 1981, Reg; April 5, 2016, Susp | ......do | Do.
Quarryville, Borough of, Lancaster County | 420563 | September 25, 1974, Emerg; January 16, 1981, Reg; April 5, 2016, Susp | ......do | Do.
Rapho, Township of, Lancaster County | 421781 | June 25, 1975, Emerg; February 16, 1983, Reg; April 5, 2016, Susp | ......do | Do.
Sadsbury, Township of, Lancaster County | 421782 | July 30, 1975, Emerg; January 16, 1981, Reg; April 5, 2016, Susp | ......do | Do.
Salisbury, Township of, Lancaster County | 421783 | May 20, 1975, Emerg; April 15, 1981, Reg; April 5, 2016, Susp | ......do | Do.
Strasburg, Borough of, Lancaster County | 427790 | N/A, Emerg; December 18, 2006, Reg; April 5, 2016, Susp | ......do | Do.
Strasburg, Township of, Lancaster County | 421784 | May 27, 1975, Emerg; February 4, 1981, Reg; April 5, 2016, Susp | ......do | Do.
Upper Leacock, Township of, Lancaster County | 421785 | June 19, 1975, Emerg; November 3, 1978, Reg; April 5, 2016, Susp | ......do | Do.
Warwick, Township of, Lancaster County | 421786 | July 2, 1975, Emerg; November 19, 1980, Reg; April 5, 2016, Susp | ......do | Do.
West Cocalico, Township of, Lancaster County | 421787 | August 5, 1974, Emerg; April 15, 1981, Reg; April 5, 2016, Susp | ......do | Do.
West Donegal, Township of, Lancaster County | 421788 | June 5, 1975, Emerg; July 16, 1981, Reg; April 5, 2016, Susp | ......do | Do.
West Earl, Township of, Lancaster County | 420959 | November 2, 1973, Emerg; May 19, 1981, Reg; April 5, 2016, Susp | ......do | Do.
West Hempfield, Township of, Lancaster County | 421789 | August 30, 1974, Emerg; September 5, 1979, Reg; April 5, 2016, Susp | ......do | Do.
West Lampeter, Township of, Lancaster County | 420566 | July 9, 1973, Emerg; January 2, 1981, Reg; April 5, 2016, Susp | ......do | Do.
Region IV
Kentucky:
Bullitt County, Unincorporated Areas | 210273 | April 11, 1989, Emerg; July 1, 1991, Reg; April 5, 2016, Susp | ......do | Do.
Hillview, City of, Bullitt County | 210384 | N/A, Emerg; November 24, 2009, Reg; April 5, 2016, Susp | ......do | Do.
Lebanon Junction, City of, Bullitt County | 210304 | February 23, 1978, Emerg; July 16, 1987, Reg; April 5, 2016, Susp | ......do | Do.
Shepherdsville, City of, Bullitt County | 210028 | June 7, 1976, Emerg; January 2, 1987, Reg; April 5, 2016, Susp | ......do | Do.
Region VII
Kansas:
Geary County, Unincorporated Areas | 200579 | January 8, 1979, Emerg; February 4, 1988, Reg; April 5, 2016, Susp | ......do | Do.
Junction City, City of, Geary County | 200112 | April 15, 1975, Emerg; September 29, 1978, Reg; April 5, 2016, Susp | ......do | Do.
Nebraska: Clarkson, City of, Colfax County | 310359 | December 5, 1977, Emerg; December 18, 1986, Reg; April 5, 2016, Susp | ......do | Do.
Colfax County, Unincorporated Areas | 310426 | March 31, 1978, Emerg; February 1, 1987, Reg; April 5, 2016, Susp | ......do | Do.
Howells, Village of, Colfax County | 310380 | May 22, 1978, Emerg; June 2, 1981, Reg; April 5, 2016, Susp | ......do | Do.
Leigh, Village of, Colfax County | 310386 | August 25, 1975, Emerg; July 1, 1987, Reg; April 5, 2016, Susp | ......do | Do.
Richland, Village of, Colfax County | 310502 | N/A, Emerg; March 4, 2014, Reg; April 5, 2016, Susp | ......do | Do.
Rogers, Village of, Colfax County | 315497 | November 30, 1990, Emerg; September 17, 1992, Reg; April 5, 2016, Susp | ......do | Do.
Schuyler, City of, Colfax County | 310046 | August 30, 1974, Emerg; March 5, 1990, Reg; April 5, 2016, Susp | ......do | Do.
Region VIII
North Dakota:
Bowman, City of, Bowman County | 380012 | September 16, 1975, Emerg; July 4, 1988, Reg; April 5, 2016, Susp | ......do | Do.
Bowman County, Unincorporated Areas | 380355 | April 3, 1978, Emerg; September 30, 1987, Reg; April 5, 2016, Susp | ......do | Do.
Gascoyne, City of, Bowman County | 380677 | April 8, 1987, Emerg; September 30, 1987, Reg; April 5, 2016, Susp | ......do | Do.
Scranton, City of, Bowman County | 380014 | August 27, 1975, Emerg; September 30, 1987, Reg; April 5, 2016, Susp | ......do | Do.
Region IX
California:
San Diego, City of, San Diego County | 060295 | January 29, 1971, Emerg; August 15, 1983, Reg; April 5, 2016, Susp | ......do | Do.
*-do- = Ditto.
Code for reading third column: Emerg.—Emergency; Reg.—Regular; Susp.—Suspension.

Dated: February 11, 2016.
Roy E. Wright,
Deputy Associate Administrator, Federal Insurance and Mitigation Administration, Department of Homeland Security, Federal Emergency Management Agency.

[FR Doc. 2016-05988 Filed 3-16-16; 8:45 am]

BILLING CODE 9110-12-P